DEPARTMENT OF ENERGY

Federal Energy Regulatory Commission

[Project No. 2035-099]

City and County of Denver, Colorado; Notice of Availability of Supplemental Environmental Assessment

In accordance with the National Environmental Policy Act of 1969 and the Federal Energy Regulatory Commission's (Commission or FERC) regulations, 18 Code of Federal Regulations (CFR) Part 380, Commission staff prepared a Supplemental Environmental Assessment (Supplemental EA), to supplement a U.S. Army Corps of Engineers' (Corps) Final Environmental Impact Statement (Final EIS) completed on April 25, 2014. The Corps' Final EIS addressed a proposal by the City and County of Denver, Colorado (Denver Water) to enlarge its Moffat Collection System. The Commission acted as a cooperating agency in the preparation of the Final EIS because Gross Reservoir, a component of the Moffat Collection System which would be enlarged under the proposal, is also a feature of the Commission-licensed Gross Reservoir Hydroelectric Project No. 2035. On November 25, 2016, Denver Water filed with the Commission its application to raise the project's Gross Dam, enlarge Gross Reservoir, and amend the project license. The project is located on South Boulder Creek near the City of Boulder, Boulder County, Colorado. It occupies a total of 1,056.92 acres of federal lands within the Roosevelt National Forest administered by the U.S. Forest Service, and lands administered by the U.S. Bureau of Land Management.

The Supplemental EA analyzes potential environmental effects specific to a Commission approval of Denver Water's proposal, including amendment of the project license, which were not addressed in the 2014 Final EIS. Based on staff's independent analysis in the Supplemental EA, a Commission approval of Denver Water's proposal, as mitigated by the environmental measures discussed in the Supplemental EA, would not constitute a major federal action significantly affecting the quality of the human environment.

A copy of the Supplemental EA is available for review at the Commission in the Public Reference Room or may be viewed on the Commission's website at http://www.ferc.gov/docs-filing/efiling.asp using the eLibrary link. Enter the docket number excluding the last three digits in the docket number field to access the document. For assistance, contact FERC Online Support at FERCOnlineSupport@ferc.gov or toll-free at 1-866-208-3676, or for TTY, 202-502-8659.

All comments on the Supplemental EA must be filed by March 8, 2018, and should reference Project No. 2035-099. The Commission strongly encourages electronic filing. Please file comments using the Commission's efiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, please send a paper copy to: Kimberly D. Bose, Secretary, Federal Energy Regulatory Commission, 888 First Street NE, Washington, DC 20426.

For further information, contact Rebecca Martin by telephone at 202-502-6012 or by email at Rebecca.Martin@ferc.gov.

Dated: February 6, 2018.
Kimberly D. Bose,
Secretary.

[FR Doc. 2018-02781 Filed 2-9-18; 8:45 am]

BILLING CODE 6717-01-P